DEPARTMENT OF TRANSPORTATION

Federal Aviation Administration

[Summary Notice No. PE-2000-66]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application processing, and disposition of petitions for exemption Part 11 of Title 14, Code of Federal Regulations (14 CFR), this notice contains a summary of certain petitions seeking relief from specified requirements of 14 CFR, dispositions of this notice is to improve the public's awareness of, and participation in, this aspect of FAA's regulatory activities. Neither summary is intended to affect the legal status of any petition or its final disposition.

DATES: Comments on petitions received must identify the petition docket number involved and must be received on or before December 31, 2000.

ADDRESSES: Send comments on any petition in triplicate to: Federal Aviation Administration, Office of the Chief Counsel, Attn: Rule Docket (AGC-200), Petition Docket No. ________, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to sections 11.85 and 11.91 or part 11 of 14 CFR.

Issued in Washington, D.C., on December 5, 2000.
Donald P. Byrne,
Assistant Chief Counsel for Regulations.

Dispositions of Petitions

Docket No.: 30170.

Petitioner: Visiting Nurse Association.

Section of the 14 CFR Affected: 14 CFR §§ 135.251, 135.255, 135.353, and appendixes I and J to part 121.

Description of Relief Sought/Disposition: To permit VNA to conduct local sightseeing flights at Martin County Airport for the two-day Stuart Air Show in November 2000, for compensation or hire, without complying with certain anti-drug and alcohol misuse prevention requirements of part 135.

Grant, 11/07/00, Exemption No. 7379.

Docket No.: 30048.

Petitioner: Tuscaloosa County Sheriff's Office.

Section of the 14 CFR Affected: 14 CFR § 45.29.

Description of Relief Sought/Disposition: To permit the Sheriff's Office to operate its Cessna 182 airplane (Registration No. 163TC) displaying 2 or 3-inch-high nationality and registration markings on the tail section of the airplane instead of the 12-inch-high markings required by the regulation.

Denial, 08/11/00, Exemption No. 7311

Docket No.: 30100.

Petitioner: Ohio Council on Aeronautical Education.

Section of the 14 CFR Affected: 14 CFR § 135.251, 135.255, 135.353, and appendixes * and J to part 121

Description of Relief Sought/Disposition: To permit OCAE to conduct local sightseeing flights at Don Scott Airport, Columbus, Ohio for a one-day Career and Aviation Education Day event in November 2000, for compensation or hire, without complying with certain anti-drug and alcohol misuse prevention requirements of part 135.

Grant, 11/14/00, Exemption No. 7318.

[FR Doc. 00-31301 Filed 12-07-00; 8:45 am]

BILLING CODE 4910-13-M